DEPARTMENT OF HOMELAND SECURITY

Coast Guard

33 CFR Part 165

[Docket No. USCG-2010-0347]

Safety Zone Regulations, Seafair Blue Angels Air Show Performance, Seattle, WA

AGENCY: Coast Guard, DHS.

ACTION: Notice of enforcement of regulation.

SUMMARY: The Coast Guard will enforce a safety zone on Lake Washington, WA for the annual Seafair Blue Angels Air Show from 10 a.m. on August 5, 2010 to 6 p.m. on August 8, 2010. This action is necessary to ensure the safety of the public from inherent dangers associated with aerial displays. During the enforcement period, no person or vessel may enter this safety zone unless authorized by the Captain of the Port or Designated Representative.

DATES: The regulations in 33 CFR 165.1319 will be enforced on: August 5, 2010 from 10 a.m. to 3 p.m.; August 6, 2010 from 8:30 a.m. to 6 p.m.; August 7, 2010 from 8:30 a.m. to 6 p.m.; and August 8, 2010 from 7:30 a.m. to 6 p.m.

FOR FURTHER INFORMATION CONTACT: If you have questions on this notice, call or e-mail Ensign Ashley M. Wanzer, Sector Seattle Waterways Management Division, Coast Guard; telephone 206-217-6175, e-mail SectorSeattleWWM@uscg.mil.

SUPPLEMENTARY INFORMATION: On June 24, 2004, the Coast Guard published a Final Rule in the Federal Register (69 FR 35250) to establish a safety zone on the waters of Lake Washington for the annual Seafair Blue Angels Air Show Performance. The Coast Guard will enforce the safety zone regulation in 33 CFR 165.1319 on August 5, 2010 from 10 a.m. to 3 p.m.; August 6, 2010 from 8:30 a.m. to 6 p.m.; August 7, 2010 from 8:30 a.m. to 6 p.m.; and August 8, 2010 from 7:30 a.m. to 6 p.m.

Under the provisions of 33 CFR 165.1319, the following area is designated as a safety zone: All waters of Lake Washington, Washington State, enclosed by the following points: Near the termination of Roanoke Way 47°35′44″ N, 122°14′47″ W; thence to 47°35′48″ N, 122°15′45″ W; thence to 47°36′02.1″ N, 122°15′50.2″ W; thence to 47°35′56.6″ N, 122°16′29.2″ W; thence to 47°35′42″ N, 122°16′24″ W; thence to the east side of the entrance to the west high-rise of the Interstate 90 bridge; thence westerly along the south side of the bridge to the shoreline on the western terminus of the bridge; thence southerly along the shoreline to Andrews Bay at 47°33′06″ N, 122°15′32″ W; thence northeast along the shoreline of Bailey Peninsula to its northeast point at 47°33′44″ N, 122°15′04″ W; thence easterly along the east-west line drawn tangent to Bailey Peninsula; thence northerly along the shore of Mercer Island to the point of origin. [Datum: NAD 1983]

In accordance with the general regulations in 33 CFR Part 165, Subpart C, no person or vessel may enter or remain in the zone except for support vessels and support personnel, vessels registered with the event organizer, or other vessels authorized by the Captain of the Port or Designated Representatives. Vessels and persons granted authorization to enter the safety zone shall obey all lawful orders or directions made by the Captain of the Port or Designated Representative.

The Captain of the Port may be assisted by other federal, state and local law enforcement agencies.

This notice is issued under authority of 33 CFR 165.1319 and 5 U.S.C. 552(a).

Dated: April 6, 2010.
S.E. Englebert,
Captain, U.S. Coast Guard, Captain of the Port, Puget Sound.

[FR Doc. 2010-10312 Filed 5-3-10; 8:45 am]

BILLING CODE 9110-04-P